DEPARTMENT OF HEALTH AND HUMAN SERVICES

Indian Health Service

Request for Public Comment: 30 Day Notice for Extension of the Indian Health Service Loan Repayment Program (LRP)

AGENCY: Indian Health Service, HHS.

ACTION: Notice and request for comments. Request for extension of approval.

SUMMARY: In compliance with the Paperwork Reduction Act (PRA) of 1995, the Indian Health Service (IHS) is submitting to the Office of Management and Budget (OMB) a request for an extension of a previously approved collection of information titled, “IHS Loan Repayment Program (LRP)” (OMB Control Number 0917-0014), which expires July 31, 2018. This proposed information collection project was recently published in the Federal Register (82 FR 55107) on November 20, 2017, and allowed 60 days for public comment, as required by the PRA. The IHS received 20 anonymous comments regarding this collection but they did not pertain to the LRP notice. The purpose of this notice is to allow 30 days for public comment to be submitted directly to OMB.

A copy of the supporting statement is available at www.regulations.gov (see Docket ID IHS_FRDOC_0001).

DATES: March 16, 2018. Your comments regarding this information collection are best assured of having full effect if received within 30 days of the date of this publication.

ADDRESSES: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Evonne Bennett-Barnes by one of the following methods:

• Mail: Evonne Bennett-Barnes, Management Analyst/Information Collection Clearance Officer, Indian Health Service, 5600 Fisher Lane, Mail stop: 09E21B, Rockville, MD 20857.

• Phone: 301-443-4750.

• Email: Evonne.Bennett-Barnes@ihs.gov.

• Fax: 301-594-0899.

SUPPLEMENTARY INFORMATION: The IHS is submitting the proposed information collection to OMB for review, as required by section 3507(a)(1)(D) of the PRA of 1995. This notice is soliciting comments from members of the public and affected agencies as required by 44 U.S.C. 3506(c)(2)(A) concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Proposed Collection: Title: 0917-0014, “Indian Health Service Loan Repayment Program.”

Type of Information Collection Request: Three year extension of this information collection.

Form(s): The LRP application is available in an electronically fillable and fileable format.

Need and Use of Information Collection: The IHS LRP identifies health professionals with pre-existing financial obligations for education expenses that meet program criteria who are qualified and willing to serve at, often remote, IHS health care facilities. Under the program, eligible health professionals sign a contract through which the IHS agrees to repay part or all of their indebtedness in exchange for an initial two-year service commitment to practice full-time at an eligible Indian health program. The LRP is necessary to augment the critically low health professional staff at IHS health care facilities.

Any health professional wishing to have their health education loans repaid may apply to the IHS LRP. A two-year contract obligation is signed by both parties, and the individual agrees to work at an eligible Indian health program location and provide health services to American Indian and Alaska Native individuals.

The information collected via the on-line application from individuals is analyzed and a score is given to each applicant. This score will determine which applicants will be awarded each fiscal year. The administrative scoring system assigns a score to the geographic location according to vacancy rates for that fiscal year and also considers whether the location is in an isolated area. When an applicant accepts employment at a location, the applicant in turn “picks-up” the score of that location.

Status of the Proposed Information Collection: Renewal of a current collection.

Affected Public: Individuals and households.

Type of Respondents: Individuals.

The table below provides: Types of data collection instruments, Estimated number of respondents, Number of responses per respondent, Annual number of responses, Average burden hour per response, and Total annual burden hour(s).

Estimated Burden Hours
Data collection instrument(s) | Number of respondents | Number of responses per respondent | Average burden per response (in hours) | Total annual responses (in hours)
LRP Application (3 forms in total) | 1,726 | 1 | 1.5 | 2,589

There are no Capital Costs, Operating Costs, and/or Maintenance Costs to report.

Dated: February 5, 2018.
Michael D. Weahkee,
RADM, Assistant Surgeon General, U.S. Public Health Service, Acting Director, Indian Health Service.

[FR Doc. 2018-03019 Filed 2-13-18; 8:45 am]

BILLING CODE 4165-16-P